DEPARTMENT OF TRANSPORTATION

Federal Aviation Administration

14 CFR Part 97

[Docket No. 31151; Amdt. No. 3762]

Standard Instrument Approach Procedures, and Takeoff Minimums and Obstacle Departure Procedures; Miscellaneous Amendments

AGENCY: Federal Aviation Administration (FAA), DOT.

ACTION: Final rule.

SUMMARY: This rule amends, suspends, or removes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide for the safe and efficient use of the navigable airspace and to promote safe flight operations under instrument flight rules at the affected airports.

DATES: This rule is effective September 11, 2017. The compliance date for each SIAP, associated Takeoff Minimums, and ODP is specified in the amendatory provisions.

The incorporation by reference of certain publications listed in the regulations is approved by the Director of the Federal Register as of September 11, 2017.

ADDRESSES: Availability of matter incorporated by reference in the amendment is as follows:

For Examination

1. U.S. Department of Transportation, Docket Ops-M30, 1200 New Jersey Avenue SE., West Bldg., Ground Floor, Washington, DC 20590-0001;

2. The FAA Air Traffic Organization Service Area in which the affected airport is located;

3. The office of Aeronautical Navigation Products, 6500 South MacArthur Blvd., Oklahoma City, OK 73169 or,

4. The National Archives and Records Administration (NARA). For information on the availability of this material at NARA, call 202-741-6030, or go to: http://www.archives.gov/federal_register/code_of_federal_regulations/ibr_locations.html.

Availability

All SIAPs and Takeoff Minimums and ODPs are available online free of charge. Visit the National Flight Data Center online at nfdc.faa.gov to register. Additionally, individual SIAP and Takeoff Minimums and ODP copies may be obtained from the FAA Air Traffic Organization Service Area in which the affected airport is located.

FOR FURTHER INFORMATION CONTACT: Thomas J. Nichols, Flight Procedure Standards Branch (AFS-420) Flight Technologies and Procedures Division, Flight Standards Service, Federal Aviation Administration, Mike Monroney Aeronautical Center, 6500 South MacArthur Blvd., Oklahoma City, OK 73169 (Mail Address: P.O. Box 25082, Oklahoma City, OK 73125) telephone: (405) 954-4164.

SUPPLEMENTARY INFORMATION:

This rule amends Title 14, Code of Federal Regulations, Part 97 (14 CFR part 97) by amending the referenced SIAPs. The complete regulatory description of each SIAP is listed on the appropriate FAA Form 8260, as modified by the National Flight Data Center (NFDC)/Permanent Notice to Airmen (P-NOTAM), and is incorporated by reference under 5 U.S.C. 552(a), 1 CFR part 51, and 14 CFR 97.20. The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained on FAA form documents is unnecessary.

This amendment provides the affected CFR sections, and specifies the SIAPs and Takeoff Minimums and ODPs with their applicable effective dates. This amendment also identifies the airport and its location, the procedure and the amendment number.

Availability and Summary of Material Incorporated by Reference

The material incorporated by reference is publicly available as listed in the ADDRESSES section.

The material incorporated by reference describes SIAPs, Takeoff Minimums and ODPs as identified in the amendatory language for part 97 of this final rule.

The Rule

This amendment to 14 CFR part 97 is effective upon publication of each separate SIAP and Takeoff Minimums and ODP as amended in the transmittal. For safety and timeliness of change considerations, this amendment incorporates only specific changes contained for each SIAP and Takeoff Minimums and ODP as modified by FDC permanent NOTAMs.

The SIAPs and Takeoff Minimums and ODPs, as modified by FDC permanent NOTAM, and contained in this amendment are based on the criteria contained in the U.S. Standard for Terminal Instrument Procedures (TERPS). In developing these changes to SIAPs and Takeoff Minimums and ODPs, the TERPS criteria were applied only to specific conditions existing at the affected airports. All SIAP amendments in this rule have been previously issued by the FAA in a FDC NOTAM as an emergency action of immediate flight safety relating directly to published aeronautical charts.

The circumstances that created the need for these SIAP and Takeoff Minimums and ODP amendments require making them effective in less than 30 days.

Because of the close and immediate relationship between these SIAPs, Takeoff Minimums and ODPs, and safety in air commerce, I find that notice and public procedure under 5 U.S.C. 553(b) are impracticable and contrary to the public interest and, where applicable, under 5 U.S.C. 553(d), good cause exists for making these SIAPs effective in less than 30 days.

The FAA has determined that this regulation only involves an established body of technical regulations for which frequent and routine amendments are necessary to keep them operationally current. It, therefore—(1) is not a “significant regulatory action” under Executive Order 12866; (2) is not a “significant rule” under DOT regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, Navigation (air).

Issued in Washington, DC, on August 11, 2017.
John S. Duncan,
Director, Flight Standards Service.

Adoption of the Amendment

Accordingly, pursuant to the authority delegated to me, Title 14, Code of Federal Regulations, Part 97, (14 CFR part 97), is amended by amending Standard Instrument Approach Procedures and Takeoff Minimums and ODPs, effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

§§ 97.23, 97.25, 97.27, 97.29, 97.31, 97.33, and 97.35 [AMENDED]

By amending: § 97.23 VOR, VOR/DME, VOR or TACAN, and VOR/DME or TACAN; § 97.25 LOC, LOC/DME, LDA, LDA/DME, SDF, SDF/DME; § 97.27 NDB, NDB/DME; § 97.29 ILS, ILS/DME, MLS, MLS/DME, MLS/RNAV; § 97.31 RADAR SIAPs; § 97.33 RNAV SIAPs; and § 97.35 COPTER SIAPs, Identified as follows:

* * * Effective Upon Publication

AIRAC date | State | City | Airport | FDC No. | FDC date | Subject
12-Oct-17 | AL | Haleyville | Posey Field | 7/0337 | 8/1/17 | RNAV (GPS) RWY 36, Orig-B.
12-Oct-17 | AL | Oneonta | Robbins Field | 7/0338 | 8/1/17 | RNAV (GPS) RWY 5, Orig-A.
12-Oct-17 | AL | Aliceville | George Downer | 7/0341 | 8/1/17 | RNAV (GPS) RWY 6, Orig-B.
12-Oct-17 | AL | Tuscaloosa | Tuscaloosa Rgnl | 7/0342 | 8/1/17 | RNAV (GPS) RWY 12, Orig-A.
12-Oct-17 | AL | Troy | Troy Muni Airport At N Kenneth Campbell Field | 7/0343 | 8/1/17 | RNAV (GPS) RWY 32, Amdt 1A.
12-Oct-17 | AL | Troy | Troy Muni Airport At N Kenneth Campbell Field | 7/0344 | 8/1/17 | RNAV (GPS) RWY 14, Amdt 1A.
12-Oct-17 | CT | Meriden | Meriden Markham Muni | 7/0346 | 8/1/17 | RNAV (GPS) RWY 36, Orig-C.
12-Oct-17 | FL | Milton | Peter Prince Field | 7/0347 | 8/1/17 | RNAV (GPS) RWY 36, Amdt 1A.
12-Oct-17 | FL | Ormond Beach | Ormond Beach Muni | 7/0349 | 8/1/17 | RNAV (GPS) RWY 26, Amdt 1A.
12-Oct-17 | FL | St Petersburg | Albert Whitted | 7/0350 | 8/1/17 | VOR RWY 18, Amdt 9A.
12-Oct-17 | FL | Umatilla | Umatilla Muni | 7/0351 | 8/1/17 | RNAV (GPS) RWY 1, Orig-A.
12-Oct-17 | GA | Quitman | Quitman Brooks County | 7/0352 | 8/1/17 | RNAV (GPS) RWY 10, Amdt 1A.
12-Oct-17 | GA | Quitman | Quitman Brooks County | 7/0353 | 8/1/17 | RNAV (GPS) RWY 28, Amdt 1A.
12-Oct-17 | GA | Calhoun | Tom B David Fld | 7/0354 | 8/1/17 | RNAV (GPS) RWY 35, Amdt 1A.
12-Oct-17 | KY | Cynthiana | Cynthiana-Harrison County | 7/0355 | 8/1/17 | RNAV (GPS) RWY 11, Orig.
12-Oct-17 | KY | Cynthiana | Cynthiana-Harrison County | 7/0356 | 8/1/17 | RNAV (GPS) RWY 29, Orig.
12-Oct-17 | KY | Pine Knot | Mc Creary County | 7/0357 | 8/1/17 | RNAV (GPS) RWY 22, Orig-A.
12-Oct-17 | KY | Pine Knot | Mc Creary County | 7/0358 | 8/1/17 | RNAV (GPS) RWY 4, Orig.
12-Oct-17 | KY | Mount Sterling | Mount Sterling-Montgomery County | 7/0359 | 8/1/17 | RNAV (GPS) RWY 3, Orig-B.
12-Oct-17 | MA | Great Barrington | Walter J Koladza | 7/0360 | 8/1/17 | RNAV (GPS) RWY 11, Orig-B.
12-Oct-17 | ME | Oxford | Oxford County Rgnl | 7/0361 | 8/1/17 | RNAV (GPS) RWY 15, Orig-B.
12-Oct-17 | ME | Oxford | Oxford County Rgnl | 7/0362 | 8/1/17 | RNAV (GPS) RWY 33, Orig-B.
12-Oct-17 | ME | Houlton | Houlton Intl | 7/0368 | 8/1/17 | RNAV (GPS) RWY 5, Orig-C.
12-Oct-17 | ME | Norridgewock | Central Maine Arpt Of Norridgewock | 7/0369 | 8/1/17 | RNAV (GPS) RWY 3, Orig.
12-Oct-17 | MS | Grenada | Grenada Muni | 7/0372 | 8/1/17 | RNAV (GPS) RWY 4, Amdt 1A.
12-Oct-17 | MS | Grenada | Grenada Muni | 7/0373 | 8/1/17 | RNAV (GPS) RWY 22, Amdt 1A.
12-Oct-17 | MS | Marks | Selfs | 7/0384 | 8/1/17 | RNAV (GPS) RWY 20, Amdt 1A.
12-Oct-17 | NC | Mocksville | Twin Lakes | 7/0386 | 8/1/17 | RNAV (GPS) RWY 9, Amdt 1.
12-Oct-17 | NC | Elkin | Elkin Muni | 7/0388 | 8/1/17 | RNAV (GPS) RWY 25, Orig.
12-Oct-17 | NJ | Blairstown | Blairstown | 7/0390 | 8/1/17 | RNAV (GPS) RWY 7, Orig-A.
12-Oct-17 | NJ | Blairstown | Blairstown | 7/0393 | 8/1/17 | RNAV (GPS) RWY 25, Amdt 2A.
12-Oct-17 | NJ | West Creek | Eagles Nest | 7/0395 | 8/1/17 | RNAV (GPS)-A, Orig.
12-Oct-17 | NJ | Sussex | Sussex | 7/0400 | 8/1/17 | RNAV (GPS) RWY 3, Orig-A.
12-Oct-17 | NY | Kingston | Kingston-Ulster | 7/0402 | 8/1/17 | RNAV (GPS) RWY 15, Amdt 1.
12-Oct-17 | NY | Akron | Akron | 7/0405 | 8/1/17 | RNAV (GPS) RWY 7, Amdt 2B.
12-Oct-17 | NY | Akron | Akron | 7/0410 | 8/1/17 | RNAV (GPS) RWY 25, Amdt 2B.
12-Oct-17 | NY | Hornell | Hornell Muni | 7/0412 | 8/1/17 | RNAV (GPS) RWY 18, Orig-A.
12-Oct-17 | NY | Norwich | Lt Warren Eaton | 7/0414 | 8/1/17 | RNAV (GPS) RWY 1, Amdt 1.
12-Oct-17 | PA | Sterling | Spring Hill | 7/0421 | 8/1/17 | RNAV (GPS)-A, Amdt 1.
12-Oct-17 | PA | Washington | Washington County | 7/0424 | 8/1/17 | RNAV (GPS) RWY 9, Amdt 1D.
12-Oct-17 | PA | Bellefonte | Bellefonte | 7/0426 | 8/1/17 | RNAV (GPS) RWY 7, Orig-A.
12-Oct-17 | SC | Union | Union County, Troy Shelton Field | 7/0427 | 8/1/17 | RNAV (GPS) RWY 23, Orig-A.
12-Oct-17 | TN | Livingston | Livingston Muni | 7/0430 | 8/1/17 | RNAV (GPS) RWY 3, Amdt 1B.
12-Oct-17 | TN | Pulaski | Abernathy Field | 7/0432 | 8/1/17 | RNAV (GPS) RWY 16, Amdt 2B.
12-Oct-17 | TN | Jacksboro | Campbell County | 7/0433 | 8/1/17 | RNAV (GPS) RWY 23, Amdt 1A.
12-Oct-17 | VA | Gordonsville | Gordonsville Muni | 7/0434 | 8/1/17 | RNAV (GPS)-B, Orig.
12-Oct-17 | VA | Gordonsville | Gordonsville Muni | 7/0436 | 8/1/17 | RNAV (GPS)-A, Orig.
12-Oct-17 | VA | Norfolk | Norfolk Intl | 7/0437 | 8/1/17 | RNAV (GPS) RWY 32, Orig-D.
12-Oct-17 | VA | Quinton | New Kent County | 7/0441 | 8/1/17 | RNAV (GPS) RWY 11, Amdt 2A.
12-Oct-17 | VA | Quinton | New Kent County | 7/0443 | 8/1/17 | RNAV (GPS) RWY 29, Amdt 2A.
12-Oct-17 | VT | Barre/Montpelier | Edward F Knapp State | 7/0446 | 8/1/17 | RNAV (GPS) RWY 35, Amdt 1.
12-Oct-17 | MI | Battle Creek | W K Kellogg | 7/0799 | 8/2/17 | RNAV (GPS) RWY 23R, Amdt 1A.
12-Oct-17 | ID | Pocatello | Pocatello Rgnl | 7/1022 | 8/2/17 | RNAV (GPS) RWY 21, Amdt 1A.
12-Oct-17 | NJ | West Creek | Eagles Nest | 7/1519 | 8/1/17 | RNAV (GPS)-B, Orig.
12-Oct-17 | GA | Augusta | Augusta Rgnl At Bush Field | 7/2525 | 8/2/17 | RNAV (GPS) RWY 17, Amdt 2A.
12-Oct-17 | NJ | Newark | Newark Liberty Intl | 7/2703 | 8/2/17 | RNAV (GPS) RWY 4L, Amdt 2B.
12-Oct-17 | IN | Fort Wayne | Fort Wayne Intl | 7/2713 | 8/2/17 | RNAV (GPS) RWY 5, Amdt 1A.
12-Oct-17 | CT | Windsor Locks | Bradley Intl | 7/2727 | 8/2/17 | RNAV (GPS) Y RWY 6, Amdt 2A.
12-Oct-17 | CT | Windsor Locks | Bradley Intl | 7/2729 | 8/2/17 | RNAV (GPS) Y RWY 24, Amdt 3B.
12-Oct-17 | OH | Mansfield | Mansfield Lahm Rgnl | 7/5241 | 8/2/17 | RNAV (GPS) RWY 32, Orig-D.
12-Oct-17 | OR | Salem | Mcnary Fld | 7/5259 | 8/2/17 | RNAV (GPS) RWY 31, Amdt 3.
12-Oct-17 | FL | West Palm Beach | Palm Beach Intl | 7/5263 | 8/2/17 | RNAV (GPS) Y RWY 10L, Amdt 3A.
12-Oct-17 | WI | Oshkosh | Wittman Rgnl | 7/5265 | 8/2/17 | RNAV (GPS) RWY 36, Amdt 2A.
12-Oct-17 | OR | Portland | Portland-Hillsboro | 7/6049 | 8/2/17 | RNAV (GPS) RWY 13R, Amdt 2.
12-Oct-17 | CA | Bakersfield | Meadows Field | 7/6052 | 8/2/17 | RNAV (GPS) RWY 30R, Amdt 2.
12-Oct-17 | MD | Baltimore | Baltimore/Washington Intl Thurgood Marshall | 7/6075 | 8/2/17 | RNAV (GPS) Y RWY 10, Amdt 3A.
12-Oct-17 | NY | Elmira/Corning | Elmira/Corning Rgnl | 7/6084 | 8/2/17 | RNAV (GPS) RWY 24, Amdt 2A.
12-Oct-17 | MN | Duluth | Duluth Intl | 7/6116 | 8/2/17 | RNAV (GPS) RWY 9, Amdt 1B.
12-Oct-17 | NY | Syracuse | Syracuse Hancock Intl | 7/6593 | 8/2/17 | RNAV (GPS) Z RWY 10, Amdt 2C.
12-Oct-17 | AK | Kenai | Kenai Muni | 7/6828 | 8/2/17 | RNAV (GPS) RWY 20R, Amdt 3A.
12-Oct-17 | PA | Allentown | Lehigh Valley Intl | 7/6829 | 8/2/17 | RNAV (GPS) RWY 6, Amdt 1A.
12-Oct-17 | SC | Charleston | Charleston AFB/Intl | 7/6830 | 8/2/17 | RNAV (GPS) Y RWY 33, Amdt 3B.
12-Oct-17 | PA | Wilkes-Barre/Scranton | Wilkes-Barre/Scranton Intl | 7/6831 | 8/2/17 | RNAV (GPS) RWY 4, Amdt 1A.
12-Oct-17 | MN | Rochester | Rochester Intl | 7/8437 | 8/2/17 | RNAV (GPS) RWY 31, Amdt 1A.
12-Oct-17 | TX | Lubbock | Lubbock Preston Smith Intl | 7/9346 | 8/2/17 | RNAV (GPS) Y RWY 17R, Amdt 2A.
12-Oct-17 | GA | Savannah | Savannah/Hilton Head Intl | 7/9349 | 8/2/17 | RNAV (GPS) RWY 10, Amdt 2.
12-Oct-17 | IA | Dubuque | Dubuque Rgnl | 7/9350 | 8/2/17 | RNAV (GPS) RWY 36, Orig.
12-Oct-17 | FL | Tampa | Tampa Intl | 7/9375 | 8/2/17 | RNAV (GPS) Z RWY 19L, Amdt 2D.
12-Oct-17 | IL | Chicago | Chicago O'Hare Intl | 7/9450 | 8/2/17 | RNAV (GPS) Z RWY 28L, Orig-A.
12-Oct-17 | IL | Chicago | Chicago O'Hare Intl | 7/9451 | 8/2/17 | RNAV (GPS) RWY 4R, Amdt 1A.
12-Oct-17 | IL | Chicago | Chicago O'Hare Intl | 7/9452 | 8/2/17 | RNAV (GPS) RWY 9L, Amdt 3.
12-Oct-17 | IL | Chicago | Chicago O'Hare Intl | 7/9456 | 8/2/17 | RNAV (GPS) RWY 9R, Amdt 4.
12-Oct-17 | IL | Chicago | Chicago O'Hare Intl | 7/9457 | 8/2/17 | RNAV (GPS) RWY 10C, Amdt 1.
12-Oct-17 | IL | Chicago | Chicago O'Hare Intl | 7/9459 | 8/2/17 | RNAV (GPS) RWY 10L, Amdt 5.
12-Oct-17 | IL | Chicago | Chicago O'Hare Intl | 7/9460 | 8/2/17 | RNAV (GPS) RWY 22L, Amdt 2.
12-Oct-17 | IL | Chicago | Chicago O'Hare Intl | 7/9462 | 8/2/17 | RNAV (GPS) Z RWY 10R, Orig.
12-Oct-17 | TX | Brownsville | Brownsville/South Padre Island Intl | 7/9465 | 8/2/17 | RNAV (GPS) RWY 13, Orig.
12-Oct-17 | TX | Midland | Midland Intl Air And Space Port | 7/9490 | 8/2/17 | RNAV (GPS) RWY 10, Amdt 2B.
12-Oct-17 | TX | Dallas | Dallas Love Field | 7/9494 | 8/2/17 | RNAV (GPS) Y RWY 31R, Amdt 2.
12-Oct-17 | IL | Chicago/Rockford | Chicago/Rockford Intl | 7/9497 | 8/2/17 | RNAV (GPS) RWY 1, Amdt 1A.
12-Oct-17 | NE | Omaha | Eppley Airfield | 7/9733 | 8/2/17 | RNAV (GPS) Y RWY 18, Amdt 3.
12-Oct-17 | MO | St Louis | Spirit Of St Louis | 7/9740 | 8/2/17 | RNAV (GPS) RWY 8R, Orig-A.
12-Oct-17 | TX | Fort Worth | Fort Worth Alliance | 7/9868 | 8/2/17 | RNAV (GPS) RWY 34R, Amdt 2B.
12-Oct-17 | MI | Pontiac | Oakland County Intl | 7/9870 | 8/2/17 | RNAV (GPS) RWY 9R, Orig.
12-Oct-17 | GA | Atlanta | Hartsfield—Jackson Atlanta Intl | 7/9872 | 8/2/17 | RNAV (GPS) PRM RWY 9L (SIMULTANEOUS CLOSE PARALLEL), ORIG-A.
12-Oct-17 | MO | St Louis | Spirit Of St Louis | 7/9875 | 8/2/17 | RNAV (GPS) RWY 26L, Orig-B.
12-Oct-17 | NC | Charlotte | Charlotte/Douglas Intl | 7/9878 | 8/2/17 | RNAV (GPS) Y RWY 5, Amdt 3A.
12-Oct-17 | NC | Charlotte | Charlotte/Douglas Intl | 7/9879 | 8/2/17 | RNAV (GPS) Y RWY 18C, Amdt 3C.
12-Oct-17 | NC | Charlotte | Charlotte/Douglas Intl | 7/9880 | 8/2/17 | RNAV (GPS) Y RWY 18R, Amdt 1.

[FR Doc. 2017-19074 Filed 9-8-17; 8:45 a.m.]

BILLING CODE 4910-13-P